DEPARTMENT OF TRANSPORTATION

Federal Highway Administration

Environmental Impact Statement: Wayne County, MI

AGENCY: Federal Highway Administration (FHWA), DOT.

ACTION: Notice of intent.

SUMMARY: The FHWA is reissuing this notice (originally published March 13, 2002) to advise the public that an environmental impact statement (EIS) will be prepared for proposed intermodal freight terminal(s) in Wayne County and/or Oakland Counties, Michigan. This Notice revises the published Notice of Intent of march 13, 2002.

FOR FURTHER INFORMATION CONTACT: James A. Kirschensteiner, Assistant Division Administrator, Federal Highway Administration, 315 West Allegan Street, Room 207, Lansing, Michigan 48933, Telephone: (517) 702-1835, or Ms. Geralyn Ayers, Supervisor, Environmental Section, Bureau of Transportation Planning, Michigan Department of Transportation, P.O. Box 30050, Lansing Michigan 48909, Telephone: (517) 373-2227.

SUPPLEMENTARY INFORMATION: The FHWA, in cooperation with the Michigan Department of Transportation, will prepare an environmental impact statement (EIS) for a proposed project to develop existing individual intermodal terminals or a complex of terminals operated by several railroads to provide consolidated intermodal freight service to business and industry. The project could include roadway and rail improvements to the existing terminal sites, known as the Detroit-Livernois Yard, CP Expressway, CP Oak, and CN Moterm. Improvements are considered necessary to meet the future need for improved intermodal efficiencies regionally and on a national scale. The purpose of the project is to support the economic competitiveness of southeastern Michigan and the state of Michigan by improving freight transportation opportunities and efficiencies for business and industry.

Existing intermodal rail terminals are generally located as follows: (a) The Detroit-Livernois Yard owned/operated by CSX and Norfolk Southern Railroads and located west of Livernois Avenue and south of John Kronk Street, in Wayne County; (b) the CP (Canadian Pacific)—Expressway, east of I-75 and south of Michigan Avenue, behind the Michigan Central Depot, in Wayne County; (c) the CP (Canadian Pacific)—Oak, in the northwest quadrant of the interchange of I-96 with the Southfield Freeway, in Wayne County; (d) the CN (Canadian National)—Moterm, north of 8 Mile Road and east of Woodward Avenue, in Oakland County; and, (e) the NS (Norfolk Southern) intermodal terminals in Southwest Detroit and Melvindale known as NS Delray and NS Triple Crown, respectively. Norfolk Southern Railroad intends to consolidate its intermodal activity at these last two terminals into the Detroit-Livernois Yard, leaving that as the only NS intermodal terminal location for analysis in the Detroit Intermodal Freight Terminal Project. Mazda has an intermodal terminal at Flat Rock in Wayne County, which is not part of this project because it is not available for non-Mazda, commercial business purposes.

Alternatives under consideration include: (1) Taking no action, which involves the affected railroads mentioned above, proceeding with improvements and developments on the railroads' own schedule to meet their current intermodal market demands; (2) improving/expanding existing intermodal terminals (a through d, mentioned above) at their current locations; and (3) consolidation of regional intermodal operations at the Detroit-Livernois Yard. Alternative 3 is to be a refinement of the concept identified as Rail Strategy 3 in the Detroit Intermodal Freight Terminal Project Feasibility Study, Technical Report No. 4. This alternative was the focus of the Notice of Intent published March 13, 2002, that notice being hereby revised. The draft EIS will describe alternatives for improving intermodal activity in Southwest Michigan including those that were considered during the Feasibility Study of the Detroit Intermodal Freight Terminal Project. Those alternatives considered prudent and feasible will be studied further,.

Letters describing the proposed action and soliciting comments will be sent to appropriate federal, state, and local agencies, and to private organizations and citizens who have previously expressed or are known to have an interest in this proposal.

A series of public meetings were held during the Feasibility Study phase (2001) on March 13, April 24, May 23-24, July 25-26, October 24-25, and December 13, 2001. An additional public meeting was held on July 11, 2002 initiating the NEPA process after the initial March 13, 2002 Notice of Intent. An early scoping meeting for resource agencies was held September 19, 2002. A second scoping meeting for resource agencies is anticipated, but not yet scheduled. Other public meetings and a public hearing are planned. Public notice will be given of the time and place of the meetings and hearing. The draft EIS will be available prior to the formal public hearing for public and agency review and comment.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)
Issued on: March 13, 2003.
James J. Steele,
Division Administrator, Lansing, Michigan.

[FR Doc. 03-6836 Filed 3-20-03; 8:45 am]

BILLING CODE 4910-22-M